DEPARTMENT OF TRANSPORTATION

Federal Aviation Administration

14 CFR Part 39

[Docket No. FAA-2011-1253; Directorate Identifier 2011-NM-079-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) that would supersede an existing AD for certain Airbus Model A318, A319, A320, and A321 series airplanes. For certain airplanes, that NPRM proposed repetitive inspections for cracks of the forward lug of each main landing gear (MLG) support rib 5 fitting and repair if necessary; and removing Model 318 airplanes from the applicability. That NPRM was prompted by reports of cracks found in the forward lug of the MLG support rib 5 fitting. This action revises that NPRM by adding Model A318 airplanes and others to the applicability; and requiring repetitive detailed inspections for cracks of the MLG support 5 fitting, and repair of any cracks. We are proposing this AD to prevent cracking in the forward lug of the MLG, which could result in failure of the lug and consequent collapse of the MLG during takeoff or landing. Since these actions impose an additional burden over that proposed in the NPRM, we are reopening the comment period to allow the public the chance to comment on these proposed changes.

DATES: We must receive comments on this proposed AD by November 19, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email: account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2011-1253; Directorate Identifier 2011-NM-079-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on November 23, 2011 (76 FR 72350). That earlier NPRM proposed to supersede AD 2008-08-04, Amendment 39-15456 (73 FR 19975, April 14, 2008), which superseded AD 2006-11-04, Amendment 39-14608 (71 FR 29578, May 23, 2006), to require actions intended to address the unsafe condition for the products listed above.

Since that NPRM (76 FR 72350, November 23, 2011) was issued, new service information has been issued that specifies additional actions that are necessary to address the identified unsafe condition. We have also determined that repetitive detailed inspections for cracks of the MLG support rib 5 fitting, and repair of any cracks found, must be required for Model A318 airplanes and airplanes on which Airbus modification 32025 has been embodied in production. The European Aviation Safety Agency (EASA), which is the Technical Agent for the Member States of the European Community, has issued EASA Airworthiness Directive 2012-0032, dated February 24, 2012 (referred to after this as “the MCAI”), to correct an unsafe condition for the specified products. The MCAI states:

Several cases of corrosion of the Main Landing Gear (MLG) support Rib 5 fitting lug bores have been reported on A320 family aeroplanes. In some instances, corrosion pits caused the cracking of the forward lug (sometimes through its complete thickness). If not detected, the cracking may lead to the complete failure of the fitting and thus could affect the structural integrity of the MLG installation.

EASA AD 2007-0213 [which corresponds to FAA AD 2008-08-04, Amendment 39-15456 (73 FR 19975, April 14, 2008] was issued to address this condition and required a repetitive inspection program of the MLG support Rib 5 fitting forward lugs and, as terminating action, the embodiment of Airbus Service Bulletin (SB) A320-57-1118.

After that [EASA] AD was issued, a case of Rib 5, ruptured at the 4 o'clock position, was discovered on an aeroplane on which the terminating action of EASA AD 2007-0213 had already been embodied in accordance with Airbus SB A320-57-1118.

Investigation of that case revealed that corrosion damage and cracking that should have been removed by repair machining was below the level of detectability of the Non Destructive Test (NDT) technique that cleared the surfaces prior to bush installation.

This condition, if not detected and corrected, could affect the structural integrity of the aeroplane.

To correct this potential unsafe condition, EASA issued AD 2011-0011, [which corresponds to FAA NPRM 2011-NM-179-AD (76 FR 72350, November 23, 2011)] superseding EASA AD 2007-0213, to:

—retain the requirements of EASA AD 2007-0213 for aeroplanes on which the MLG Rib Bushes have not been modified/repaired in accordance with the instructions of Airbus SB A320-57-1118, or Airbus SRM 57-26-13, or the identified Airbus Repair Instructions, as applicable, and

—require, for all aeroplanes on which Airbus SB A320-57-1118 has been embodied in service, or on which Airbus SRM 57-26-13 or the identified Airbus Repair Instructions have been applied, a repetitive inspection program [for cracks] of the MLG support Rib 5 fitting forward lugs and, depending on findings, the accomplishment of the associated corrective actions, and

—reduce the Applicability by deleting A318 aeroplanes, as Airbus modification 32025 is embodied in production on both left-hand (LH) and right-hand (RH) wings for all A318 aeroplanes.

After that AD was issued, three cases of corrosion of Rib 5 were discovered on aeroplanes on which Airbus modification 32025 had been embodied in production. Investigations revealed that the unsafe condition addressed by AD 2011-0011 could occur or develop on those aeroplanes as well.

For the reasons described above, this [EASA] AD retains the requirements of EASA AD 2011-0011, which is superseded, extends the applicability to all aeroplanes, and requires for aeroplanes on which Airbus modification 32025 has been embodied in production, repetitive inspections of the MLG support Rib 5 fitting forward lugs and, depending on findings, the accomplishment of applicable corrective actions.

The unsafe condition is cracking in the forward lug of the MLG, which could result in failure of the lug and consequent collapse of the MLG during takeoff or landing. You may obtain further information by examining the MCAI in the AD docket.

Relevant Service Information

Airbus has issued Mandatory Service Bulletin A320-57A1166, Revision 01, dated October 19, 2011; and Service Bulletin A320-75-1168, dated November 7, 2011. The actions described in this service information are intended to correct the unsafe condition identified in the MCAI.

Comments

We have considered the following comments received on the earlier NPRM (76 FR 72350, November 23, 2011).

Agreement With the Intent of the NPRM (76 FR 72350, November 23, 2011)

United Airlines (United) stated that it generally agrees with the intent of the NPRM (76 FR 72350, November 23, 2011).

Agreement With Post-Modification Inspections

US Airways stated it agrees with the post-modification inspections in the NPRM (76 FR 72350, November 23, 2011).

Support for the NPRM (76 FR 72350, November 23, 2011)

Donjeta Dervisholli stated that the NPRM (76 FR 72350, November 23, 2011) should “be passed” because it will make flights safer and it will also get things up to code. The commenter also stated that adopting the AD will help create jobs for the economy as well, and will help stabilize the economy and make money. The commenter concluded that this regulation needs “to pass” to make sure that cracking will not happen again and there will be no more damage.

Request To Delay Publication of Rule

Airbus requested that we postpone issuing the final rule to “be in line with the forthcoming EASA AD,” or that we issue the final rule with caution notes. Airbus stated it is currently in the process with EASA of issuing a new AD to extend the inspection program to all Airbus Model A318, A319, A320, and A321 airplanes, and that Airbus modification 32025 will no longer be considered a terminating action in the forthcoming EASA AD.

We agree with postponing the final rule and, instead, will release this supplemental NPRM because it has been recently determined that Airbus modification 32025 does not mitigate the unsafe condition. In addition, we have recently determined that there is no terminating action available for the repetitive inspection requirement of this supplemental NPRM.

Request To Delay Issuance of the Final Rule

US Airways requested that we review Airbus Service Bulletin A320-57-1168, dated November 7, 2011, with EASA so that a single AD can be written to cover both post-modification 32025 airplanes and the in-service fleet and to avoid another supersedure AD. US Airways stated that the production modification of the fittings and the in-service modification according to Airbus Mandatory Service Bulletin A320-57-1118, Revision 04, dated June 4, 2008, has been shown to be ineffective at preventing corrosion. The commenter stated that Airbus has released Airbus Service Bulletin SB A320-57-1168, dated November 7, 2011, which recommends repetitive inspections at 500-flight-cycle intervals for new delivery and replacement of fittings after a 5-year threshold elapses.

As stated previously, we are releasing this supplemental NPRM because it has been recently determined that Airbus modification 32025 does not mitigate the unsafe condition. In addition, we have recently determined that there is no terminating action available for the repetitive inspection requirement of this supplemental NPRM.

Requests To Clarify Approved Alternative Methods of Compliance (AMOCs)

United and US Airways requested clarification of the applicability of AMOCs previously approved for AD 2006-11-04, Amendment 39-14608 (71 FR 29578, May 23, 2006); and AD 2008-08-04, Amendment 39-15456 (73 FR 19975, April 14, 2008).

We agree to clarify the validity of AMOC approvals granted for AD 2006-11-04, Amendment 39-14608 (71 FR 29578, May 23, 2006); and AD 2008-08-04, Amendment 39-15456 (73 FR 19975, April 14, 2008). We have revised the statement in paragraph (u)(1) of this supplemental NPRM to state that AMOCs approved previously in accordance with AD 2006-11-04 and AD 2008-08-04 are approved as AMOCs for the corresponding provisions of this supplemental NPRM.

Request To Reference a Repair Drawing

United requested that we revise the NPRM (76 FR 72350, November 23, 2011) to include recently released Airbus Repair Drawing R572 481, Issue A, dated November 11, 2011, in paragraphs (j)(1) and (j)(2) of the NPRM. United also requested that if Airbus Mandatory Service Bulletin A320-57-1118, Revision 04, dated June 4, 2008, is revised before the release of the final rule, then that service bulletin should also include Airbus Repair Drawing R572 481, Issue A, dated November 11, 2011, and the new service information should be referenced in the final rule.

We disagree. Paragraph (j)(1) of the NPRM (76 FR 72350, November 23, 2011) references “Airbus Service Bulletin A320-57-1118,” which includes all revisions of that service bulletin. Once an operator accomplishes any revision of Airbus Service Bulletin A320-57-1118, the affected airplane is subject to the actions specified in paragraphs (k), (m), and (n) of this supplemental NPRM. In addition, Airbus Repair Drawing R572 481, Issue A, dated November 11, 2011, is not an acceptable method of compliance for any action in this supplemental NPRM and, therefore, would not be included in the conditions specified in paragraphs (j)(1) and (j)(2) of this supplemental NPRM. We have not changed the supplemental NPRM in this regard.

Request To Include New Service Information

United requested that we revise the NPRM (76 FR 72350, November 23, 2011) to refer to Airbus Mandatory Service Bulletin A320-57A1166, Revision 01, dated October 19, 2011, for the actions specified in paragraph (o) of the NPRM.

We agree. As discussed previously, Airbus Mandatory Service Bulletin A320-57A1166, Revision 01, dated October 19, 2011, was issued while the comment period was open for the NPRM (76 FR 72350, November 23, 2011). That service bulletin includes minor edits and does not add an additional economic burden. We have revised paragraph (n) of this supplemental NPRM (paragraph (o) of the NPRM) to reference Airbus Mandatory Service Bulletin A320-57A1166, Revision 01, dated October 19, 2011; and added paragraph (t) to this supplemental NPRM to give credit for corresponding actions done before the effective date of the AD using Airbus Service Bulletin A320-57A1166, dated January 12, 2011. We have also updated the subsequent paragraph identifiers accordingly.

Request To Reference Specifications Without Revision Dates

US Airways requested that we revise the NPRM (76 FR 72350, November 23, 2011) to specify the structural repair manual chapter and paragraph, or by drawing number, without revision dates. US Airways stated that specification of corrective actions by document dates, as specified in paragraph (i) of the NPRM, unnecessarily restricts the use of latest and best repair practices. The referenced repair documents are now roughly between seven and eleven years old. US Airways pointed out that Airbus has made efforts to improve these repairs in that time frame, and by restricting operators to the use of historic documents, the FAA is making it difficult to incorporate improved repair methods.

We partially agree. We agree with US Airways that the most current approved service information should be referenced in the AD. We must reference the revision dates in an AD when referring to the service document, because not doing so violates the Office of the Federal Register (OFR) policies for approval of materials “incorporated by reference” in rules. In general terms, we are required by these OFR policies to either publish the service document contents as part of the actual AD language; or submit the service document to the OFR for approval as “referenced” material, in which case we may only refer to such material in the text of an AD. The AD may refer to the service document only if the OFR approved it for “incorporation by reference.” To allow operators to use later revisions of the referenced document (issued after publication of the AD), either we must revise the AD to reference specific later revisions, or operators may request approval to use later revisions as an AMOC with the AD under the provisions of paragraph (u) of this supplemental NPRM. As stated previously, we have revised the supplemental NPRM to accept previously approved AMOCs for the corresponding provisions of this supplemental NPRM. We have not changed the AD regarding incorporating service information without revision dates.

Request To Reformat Table 1 of the NPRM (76 FR 72350, November 23, 2011)

US Airways requested that we correct the formatting of table 1 to paragraph (k) of the NPRM (76 FR 72350, November 23, 2011). The commenter stated that the details in the first two rows of that table are data for Airbus Model A319 and A320 airplanes, while the third and fourth rows provide information for Model A321 airplanes.

We find that clarification is necessary. The commenter correctly specified the information in table 1 to paragraph (k) of the NPRM (76 FR 72350, November 23, 2011), but identified no errors that require correction. The information in table 1 to paragraph (k) of this supplemental NPRM is correct. However, we have added a reference to Model A318 airplanes to the first row of the table.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM (76 FR 72350, November 23, 2011). As a result, we have determined that it is necessary to reopen the comment period to provide additional opportunity for the public to comment on this proposed AD.

Additional Changes to the Supplemental NPRM

We have removed certain service information as a method of compliance from paragraphs (g), (h), (i), and (j) of the NPRM (76 FR 72350, November 23, 2011), in this supplemental NPRM. We have also added certain credit for actions done before the effective date of this AD in paragraph (t) of this supplemental NPRM, using that removed service information.

Costs of Compliance

Based on the service information, we estimate that this proposed AD would affect about 740 products of U.S. registry.

The actions that are required by AD 2008-08-04, Amendment 39-15456 (73 FR 19975, April 14, 2008), and retained in this proposed AD take about 73 work-hours per product, at an average labor rate of $85 per work hour. Required parts would cost about $3,860 per product. Where the service information lists required parts costs that are covered under warranty, we have assumed that there will be no charge for these parts. As we do not control warranty coverage for affected parties, some parties may incur costs higher than estimated here. Based on these figures, the estimated cost of the currently required actions is $10,065 per product.

We estimate that it would take about 3 work-hours per product to comply with the new basic requirements of this proposed AD. The average labor rate is $85 per work-hour. Based on these figures, we estimate the cost of the new actions in this proposed AD on U.S. operators to be up to $188,700, or $255 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-08-04, Amendment 39-15456 (73 FR 19975, April 14, 2008), and adding the following new AD:

Airbus: Docket No. FAA-2011-1253; Directorate Identifier 2011-NM-079-AD.

(a) Comments Due Date

We must receive comments by November 19, 2012.

(b) Affected ADs

This AD supersedes AD 2008-08-04, Amendment 39-15456 (73 FR 19975, April 14, 2008), which superseded AD 2006-11-04, Amendment 39-14608 (71 FR 29578, May 23, 2006).

(c) Applicability

This AD applies to Airbus Model A318-111, -112, -121, and -122; A319-111, A319-112, A319-113, A319-114, A319-115, A319-131, A319-132, and A319-133; A320-111, A320-211, A320-212, A320-214, A320-231, A320-232, and A320-233; and A321-111, A321-112, A321-131, A321-211, A321-212, A321-213, A321-231, and A321-232 airplanes; certificated in any category; all manufacturer serial numbers.

(d) Subject

Air Transport Association (ATA) of America Code 57, Wings.

(e) Reason

This AD was prompted by reports of cracks found in the forward lug of the main landing gear (MLG) support rib 5 fitting. We are issuing this AD to prevent cracking in the forward lug of the MLG, which could result in failure of the lug and consequent collapse of the MLG during takeoff or landing.

(f) Compliance

You are responsible for having the actions required by this AD performed within the compliance times specified, unless the actions have already been done.

(g) Retained Repetitive Detailed Inspections With Changes

This paragraph restates the requirements of paragraph (f) of AD 2008-08-04, Amendment 39-15456 (73 FR 19975, April 14, 2008), with changes. Except for airplanes on which Airbus modification 32025 has been accomplished in production, within 8 days after June 7, 2006 (the effective date of AD 2006-11-04, Amendment 39-14608 (71 FR 29578, May 23, 2006)), or before further flight after a hard landing, whichever is first: Perform a detailed inspection for cracking in the forward lug of the support rib 5 fitting of the left- and right-hand MLG, and, if any crack is found, replace the MLG fitting with a new fitting before further flight, in accordance with a method approved by the Manager, International Branch, ANM-116, Transport Airplane Directorate, FAA, or the European Aviation Safety Agency (EASA) (or its delegated agent). Repeat the inspection thereafter at intervals not to exceed 8 days, or before further flight after a hard landing, whichever is first. As of May 19, 2008 (the effective date of AD 2008-08-04), the repetitive inspections required by paragraph (k) of this AD must be accomplished in lieu of the repetitive inspections required by this paragraph.

(h) Retained Optional Inspection Method With Changes

This paragraph restates the requirements of paragraph (g) of AD 2008-08-04, Amendment 39-15456 (73 FR 19975, April 14, 2008), with revised service information. Performing an ultrasonic inspection for cracking in the forward lug of the support rib 5 fitting of the left- and right-hand MLG, in accordance with an applicable method specified in paragraph (h)(1) or (h)(2) of this AD is an acceptable alternative method of compliance for the initial and repetitive inspections required by paragraph (g) of this AD.

(1) In accordance with a method approved by the Manager, International Branch, ANM-116, or the EASA (or its delegated agent).

(2) In accordance with Task 57-29-03-270-801-A-01, Gear Rib Forward Lug Attachment for the Main Landing Gear Before Modification 32025J2211, of Chapter 57, Wings, of the Airbus A318/A319/A320/A321 Nondestructive Testing Manual, Revision 89, dated August 1, 2011.

(i) Retained Optional Terminating Action With Changes

This paragraph restates the requirements of paragraph (h) of AD 2008-08-04, Amendment 39-15456 (73 FR 19975, April 14, 2008). Repair of the forward lugs of the support rib 5 fitting of the left- and right-hand MLG done before the effective date of this AD, in accordance with a method approved by the Manager, International Branch, ANM-116, or the EASA (or its delegated agent); constitutes terminating action for the requirements of paragraphs (g), (h), (k), (l), and (m) of this AD.

(j) Retained Referenced Conditions With Revised Affected Airplanes

To identify affected airplanes in paragraphs (k), (m), and (o) of this AD, this AD refers to the following conditions:

(1) Airplanes on which the modification of the MLG rib bushes specified in Airbus Service Bulletin A320-57-1118 has been done.

(2) Airplanes on which a repair of the MLG support rib 5 fitting has been done in accordance with paragraph 5.C. of Subsection 57-26-13, Attachments—Main Landing Gear, of the Airbus A319 Structural Repair Manual (SRM), Revision November 1, 2004; paragraph 5.D. of Subsection 57-26-13, Attachments—Main Landing Gear, of the Airbus A320 SRM, Revision November 1, 2004; or paragraph 5.D. of Subsection 57-26-13, Attachments—Main Landing Gear, of the Airbus A321 SRM, Revision February 1, 2005; as applicable.

(3) Airplanes on which replacement in service of the MLG support rib 5 specified in Airbus Repair Instruction R572-58507 and Airbus Repair Drawing R57258209, or Airbus Repair Instruction R572-45020 and Airbus Repair Drawing R57245019, as applicable, has been done.

(k) Retained Repetitive Inspections

This paragraph restates the requirements of paragraph (i) of AD 2008-08-04, Amendment 39-15456 (73 FR 19975, April 14, 2008). For airplanes on which none of the actions specified in paragraphs (j)(1), (j)(2), and (j)(3) of this AD have been done, except for airplanes on which Airbus modification 32025 has been accomplished: At the applicable time specified in table 1 to paragraph (k) of this AD, or before further flight after a hard landing, whichever is first, do a visual inspection or ultrasonic inspection for cracking in the forward lug of the support rib 5 fitting of the left and right MLG, in accordance with the Accomplishment Instructions of Airbus Service Bulletin A320-57-1138, Revision 01, dated October 27, 2006. Repeat the inspection thereafter at the applicable interval specified in table 1 to paragraph (k) of this AD or before further flight after a hard landing, whichever is first, until the modification required by paragraph (m) of this AD has been accomplished. Accomplishing the initial inspection terminates the requirements of paragraph (g) of this AD.

Table 1 to Paragraph (k) of This AD—Compliance Times
Airplanes | Initial inspection | Repetitive interval
(1) Model A318, A319, and A320 airplanes | (i) If the most recent inspection is a detailed inspection done in accordance with paragraph (g) of this AD, inspect within 150 flight cycles after the most recent detailed inspection | Within 150 flight cycles after a visual inspection.
| (ii) If the most recent inspection is an ultrasonic inspection done in accordance with paragraph (h) of this AD, inspect within 940 flight cycles after the most recent ultrasonic inspection | Within 940 flight cycles after an ultrasonic inspection.
(2) Model A321 airplanes | (i) If the most recent inspection is a detailed inspection done in accordance with paragraph (g) of this AD, inspect within 100 flight cycles after the most recent detailed inspection | Within 100 flight cycles after a visual inspection.
| (ii) If the most recent inspection is an ultrasonic inspection done in accordance with paragraph (h) of this AD, inspect within 630 flight cycles after the most recent ultrasonic inspection | Within 630 flight cycles after an ultrasonic inspection.

(l) Retained Corrective Action

This paragraph restates the requirements of paragraph (j) of AD 2008-08-04, Amendment 39-15456 (73 FR 19975, April 14, 2008). If any cracking is found during any inspection required by paragraph (k) of this AD: Before further flight, repair or replace the cracked MLG fitting, in accordance with a method approved by the Manager, International Branch, ANM-116, or the EASA (or its delegated agent).

(m) Retained Rib Bushing Modification

This paragraph restates the requirements of paragraph (k) of AD 2008-08-04, Amendment 39-15456 (73 FR 19975, April 14, 2008), with revised service information. Except for airplanes on which the actions specified in paragraph (j)(1) or (j)(3) of this AD have been done, and except for airplanes on which Airbus modification 32025 has been accomplished: Within 60 months after May 19, 2008 (the effective date of AD 2008-08-04), modify the rib bushings of the left and right MLG, by accomplishing all of the applicable actions specified in the Accomplishment Instructions of Airbus Service Bulletin A320-57-1118, Revision 03, dated April 23, 2007; or Airbus Mandatory Service Bulletin A320-57-1118, Revision 04, dated June 4, 2008. Accomplishing this modification terminates the requirements of paragraphs (g) and (k) of this AD, and then the requirements of paragraph (n) of this AD must be done.

(n) New Post-Modification/Post-Repair Inspections

For airplanes on which the actions specified in paragraph (j)(1), (j)(2), or (m) of this AD have been done: At the later of the times specified in paragraphs (n)(1) and (n)(2) of this AD, do a detailed inspection for cracks of the forward lug of each left-hand and right-hand MLG support rib 5 fitting, in accordance with the Accomplishment Instructions of Airbus Mandatory Service Bulletin A320-57A1166, Revision 01, dated October 19, 2011. Repeat the inspection thereafter at intervals not to exceed 500 flight cycles.

(1) Within 2,000 flight cycles after accomplishing the modification specified in paragraph (j)(1) or (m) of this AD, or the repair specified in paragraph (j)(2) of this AD, as applicable.

(2) Within 250 flight cycles after the effective date of this AD, without exceeding 3 months after the effective date of this AD.

(o) New Repair of Cracking Found During Post-Modification/Post-Repair

If any crack is detected during any inspection required by paragraph (n) of this AD: Before further flight, repair using a method approved by either the Manager, International Branch, ANM-116, Transport Airplane Directorate, FAA, or the EASA (or its delegated agent).

(p) New Optional Terminating Action

Replacement of a MLG support rib 5 fitting at any position (left-hand or right-hand), as specified in paragraph (j)(3) of this AD, terminates the requirements of paragraphs (k) and (n) of this AD for the MLG support rib 5 fitting at that position.

(q) New Repetitive Detailed Inspection for Certain Airplanes

For airplanes on which the actions specified in paragraph (j)(3) of this AD have been done: Within 60 months after the replacement or within 500 flight cycles after the effective date of this AD, whichever occurs later, do a detailed inspection of the forward lug of each left-hand and right-hand MLG support Rib 5 fitting that has been replaced, in accordance with the Accomplishment Instructions of Airbus Mandatory Service Bulletin A320-57A1166, Revision 01, dated October 19, 2011. Repeat the inspection thereafter at intervals not to exceed 500 flight cycles.

(r) New Repetitive Inspections for Airplanes with Airbus Modification 32025

For airplanes on which Airbus modification 32025 has been accomplished: At the applicable time specified in paragraph (r)(1,) (r)(2), (r)(3), or (r)(4) of this AD, do a detailed inspection for cracks of the forward lug of each left-hand and right-hand MLG support rib 5 fitting, in accordance with the Accomplishment Instructions of Airbus Service Bulletin A320-57-1168, dated November 7, 2011. Repeat the inspection thereafter at intervals not to exceed 500 flight cycles.

(1) For airplanes on which the MLG support rib 5 has not been modified nor repaired since the first flight of the airplane as of the effective date of this AD: Within 60 months after the first flight of the airplane or within 500 flight cycles after the effective date of this AD, whichever occurs later.

(2) For airplanes on which the MLG support rib 5 has been replaced as specified in paragraph (j)(3) of this AD as of the effective date of this AD: Within 60 months after the replacement of the MLG support rib 5 or within 500 flight cycles after the effective date of this AD, whichever occurs later.

(3) For airplanes on which the MLG support rib 5 has been repaired according to the SRM or a repair approval sheet as of the effective date of this AD: At the later of the times specified in paragraph (r)(3)(i) or (r)(3)(ii) of this AD.

(i) Within 2,000 flight cycles after the repair.

(ii) Within 250 flight cycles or 3 months after the effective date of this AD, whichever occurs first.

(4) For airplanes having a manufacturer serial number listed in table 2 to paragraph (r)(4) of this AD, and on which the MLG support rib 5 has been inspected before the effective date of this AD according to specific Airbus repair instructions or technical disposition: At the later of the times specified in paragraph (r)(4)(i) or (r)(4)(ii) of this AD.

Table 2 to Paragraph (r)(4) of This AD—Manufacturer Serial Number (S/N)
S/N—
1965 | 2056 | 2155
2274 | 2278 | 2288
2321 | 2478 | 2586
2588 | 2612 | 2672
2688 | 2707 | 2929
2942 | 3089 | 3117
3361 | 3427 | 3486
3489 | 3806 | 3891
3937 | 4243 | 4345

(i) Within 2,000 flight cycles after the last inspection done using specific Airbus repair instructions or a technical disposition, or within 60 months since first flight of the airplane, whichever occurs later.

(ii) Within 250 flight cycles or 3 months after the effective date of this AD, whichever occurs first.

(s) New Repair of Cracking

If any crack is detected during any inspection required by paragraph (q) or (r) of this AD: Before further flight, repair using a method approved by either the Manager, International Branch, ANM-116, Transport Airplane Directorate, FAA, or the EASA (or its delegated agent).

(t) Credit for Previous Actions

(1) This paragraph provides credit for the actions required by paragraph (g) of this AD, if those actions were performed before the effective date of this AD using Airbus A318/A319/A320/A321 Nondestructive Testing Manual, Chapter 51-90-00, Revision dated February 1, 2003.

(2) This paragraph provides credit for the actions required by paragraph (h) of this AD, if those actions were performed before the effective date of this AD using Airbus A318/A319/A320/A321 Nondestructive Testing Manual, Chapter 57-29-03, Revision dated February 1, 2005 (for Model A318, A319, and A320 airplanes); or Chapter 57-29-04, Revision dated May 1, 2005 (for Model A321 airplanes).

(3) This paragraph provides credit for the actions specified in paragraph (i) of this AD, if those actions were performed before the effective date of this AD using paragraph 5.C. of Subsection 57-26-13, Attachments—Main Landing Gear, of the Airbus A319 Structural Repair Manual (SRM), Revision November 1, 2004; paragraph 5.D. of Subsection 57-26-13, Attachments—Main Landing Gear, of the Airbus A320 SRM, Revision November 1, 2004; or paragraph 5.D. of Subsection 57-26-13, Attachments—Main Landing Gear, of the Airbus A321 SRM, Revision February 1, 2005; as applicable.

(4) This paragraph provides credit for the inspections required by paragraphs (n) and (r) of this AD, if the inspections were performed before the effective date of this AD using Airbus Service Bulletin A320-57A1166, dated January 12, 2011.

(5) This paragraph provides credit for the modification required by paragraph (m) of this AD, if the modification was performed before May 19, 2008 (the effective date of AD 2008-08-04, Amendment 39-15456 (73 FR 19975, April 14, 2008), using service information identified in paragraph (t)(5)(i), (t)(5)(ii), or (t)(5)(iii) of this AD.

(i) Airbus Service Bulletin A320-57-1118, dated September 5, 2002.

(ii) Airbus Service Bulletin A320-57-1118, Revision 01, dated August 28, 2003.

(iii) Airbus Service Bulletin A320-57-1118, Revision 02, dated August 2, 2006.

(u) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2006-11-04, Amendment 39-14608 (71 FR 29578, May 23, 2006); and AD 2008-08-04, Amendment 39-15456 (73 FR 19975, April 14, 2008); are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to ensure the product is airworthy before it is returned to service.

(v) Related Information

Refer to MCAI EASA Airworthiness Directive 2012-0032, dated February 24, 2012, and the following service information, for related information.

(1) Airbus Mandatory Service Bulletin A320-57-1118, Revision 04, dated June 4, 2008.

(2) Airbus Mandatory Service Bulletin A320-57A1166, Revision 01, dated October 19, 2011.

(3) Airbus Service Bulletin A320-57-1168, dated November 7, 2011.

(4) Airbus Service Bulletin A320-57-1118, Revision 03, dated April 23, 2007.

(5) Airbus Service Bulletin A320-57-1138, Revision 01, dated October 27, 2006.

(6) Task 57-29-03-270-801-A-01, Gear Rib Forward Lug Attachment for the Main Landing Gear Before Modification 32025J2211, of Chapter 57, Wings, of the Airbus A318/A319/A320/A321 Nondestructive Testing Manual, Revision 89, dated August 1, 2011.

Issued in Renton, Washington, on September 26, 2012.
Ali Bahrami,
Manager, Transport Airplane Directorate, Aircraft Certification Service.

[FR Doc. 2012-24393 Filed 10-2-12; 8:45 am]

BILLING CODE 4910-13-P